DEPARTMENT OF COMMERCE

International Trade Administration

[A-570-831]

Fresh Garlic From the People's Republic of China: Extension of Time Limit for the Preliminary Results of New Shipper Reviews

AGENCY: Import Administration, International Trade Administration, Department of Commerce.

EFFECTIVE DATE: December 6, 2005.

FOR FURTHER INFORMATION CONTACT: Sochieta Moth or Ryan Douglas, AD/CVD Operations, Office 8, Import Administration, International Trade Administration, U.S. Department of Commerce, 14th Street and Constitution Avenue, NW, Washington, DC 20230; telephone: (202) 482-0168 and (202) 482-1277, respectively.

Background

The Department of Commerce (“the Department”) published an antidumping duty order on fresh garlic from the People's Republic of China on November 16, 1994. See Antidumping Duty Order: Fresh Garlic from the People's Republic of China, 59 FR 28462. On July 11, 2005, the Department published the semi-annual initiation of new shipper reviews in this proceeding (see Fresh Garlic From the People's Republic of China; Initiation of New Shipper Reviews, 70 FR 39733 (July 11, 2005)) for the period November 1, 2004, through April 30, 2005, for three exporters: Shandong Chengshun Farm Produce Trading Company, Ltd. (“Chengshun”); Xi'an XiongLi Foodstuff Co., Ltd. (“XiongLi”); and Shenzhen Fanhui Import and Export Co., Ltd.(“Fanhui”). The preliminary results of these reviews are currently due no later than December 27, 2005. On September 14, 2005, the Department rescinded the new shipper review with respect to XiongLi, pursuant to XiongLi's timely submission to withdraw its request to these reviews (see Fresh Garlic From the People's Republic of China: Rescission of Antidumping Duty New Shipper Review, 70 FR 54358 (September 14, 2005)). On October 3, 2005, the Department initiated a new shipper review of fresh garlic from the PRC for Qufu Dongbao Import and Export Trade Co., Ltd. (“Dongbao”) (see Fresh Garlic From the People's Republic of China: Initiation of Antidumping Duty New Shipper Review, 70 FR 57561 (October 3, 2005)). The preliminary results to these reviews are currently due no later than March 22, 2006. On October 26, 2005, the Department initiated a new shipper review of fresh garlic from the PRC for Anqiu Friend Food Co., Ltd. (“Anqiu Friend”) (see Fresh Garlic From the People's Republic of China: Initiation of Antidumping Duty New Shipper Review, 70 FR 61787 (October 26, 2005)). The preliminary results to this review are currently due no later than April 18, 2006.

Extension of Time Limit for Preliminary Results

Section 751(a)(2)(B)(iv) of the Tariff Act of 1930, as amended (the Act), provides that the Department will issue the preliminary results of a new shipper review of an antidumping duty order within 180 days after the day on which the review was initiated (see also, 19 CFR 351.214 (i)(1) (2005)). The Act provides further that the Department may extend that 180-day period to 300 days if it determines that the case is extraordinarily complicated (19 CFR 351.214 (i)(2)).

The Department has determined that these reviews are extraordinarily complicated and that it is not practicable to complete the preliminary results of these reviews by the current deadlines of December 27, 2005, March 22, 2006, and April 18, 2006. There are significant and complicated issues surrounding the Department's normal value calculation, particularly with respect to the valuation of the fresh garlic bulb. The Department requires additional time to properly analyze the respondents' questionnaires responses, issue supplemental questionnaires, and conduct any appropriate verifications in theses new shipper reviews. Therefore, in accordance with section 751(a)(2)(B)(iv) of the Act and 19 CFR 351.214(i)(2), the Department is extending the time limit for the preliminary results to these reviews of Chengshun and Fanhui by 120 days, until no later than April 26, 2006. The Department is also extending the time limits for the preliminary results of Dongbao by 35 days and for Anqiu Friend by 8 days, until no later than April 26, 2006. Thus, the Department will issue the preliminary results for Dongbao and Anqiu Friend concurrently with the preliminary results for Chengshun and Fanhui on April 26, 2006.

We are issuing this notice in accordance with sections 751(a)(3)(A) and 777(i) of the Act.

Dated: November 30, 2005.
Stephen J. Claeys,
Deputy Assistant Secretary for Import Administration.

[FR Doc. E5-6901 Filed 12-5-05; 8:45 am]

BILLING CODE 3510-DS-S

j